DEPARTMENT OF AGRICULTURE

Rural Business-Cooperative Service

Notice of Request for Extension of a Currently Approved Information Collection

AGENCY: Rural Business-Cooperative Service, USDA.

ACTION: Proposed collection; comments requested.

SUMMARY: In accordance with the Paperwork Reduction Act of 1995, this notice announces the Rural Business-Cooperative Service's (RBS) intention to request an extension for a currently approved information collection in support of the program for the National Sheep Industry Improvement Center (NSIIC) authorized in 7 U.S.C. 2008j.

DATES: Comments on this notice must be received by December 12, 2006 to be assured of consideration.

FOR FURTHER INFORMATION CONTACT: Jay B. Wilson, Executive Director, National Sheep Industry Improvement Center, P.O. Box 23483, Washington, DC 20026-3483, Telephone (202) 690-0632 or by e-mail to: info@nsiic.org.

SUPPLEMENTARY INFORMATION: Title: National Sheep Industry Improvement Center.

OMB Number: 0570-0048.

Expiration Date of Approval: March 31, 2007.

Type of Request: Extension of a currently approved information collection.

Abstract: The National Sheep Industry Improvement Center (NSIIC) is authorized by 7 U.S.C. 2008j as a flexible and innovative approach for the sheep and goat industries for infrastructure development, business development, production, resource development, and market and environmental research. The management of NSIIC is vested in a Board of Directors (Board), appointed by, and reports to the Secretary of Agriculture. The Board is authorized in 7 U.S.C. 2008j(e)(3)(A) to make grants, and the grant process is further addressed in the National Sheep Center 2006 Strategic Plan which has been approved by the Secretary of Agriculture. The Board proposes to make competitive grant funds available in fiscal year 2007 to address the needs and priorities of the sheep and goat industries.

Estimate of Burden: Public reporting burden for this collection of information is estimated to average 8 hours or less per response.

Respondents: Grant Applicants.

Estimated Number of Respondents: 45.

Estimated Number of Responses per Respondent: 1.

Estimated Number of Responses: 45

Estimated Total Annual Burden on Respondents: 387 hours.

Copies of this information collection can be obtained from Cheryl Thompson, Regulations and Paperwork Management Branch, at (202) 692-0043.

Comments

Comments are invited on: (a) Whether the proposed collection of information is necessary for the proper performance of the functions of NSIIC, including whether the information will have practical utility; (b) the accuracy of NSIIC's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or forms of information technology. Comments may be sent to Cheryl Thompson, Regulations and Paperwork Management Branch, Support Services Division, U.S. Department of Agriculture, Rural Development, STOP 0742, Washington, DC 20250-0742. All responses to this notice will be summarized and included in the request for OMB approval. All comments will also become a matter of public record.

Dated: October 5, 2006.
Jackie J. Gleason,
Administrator, Rural Business-Cooperative Service.

[FR Doc. E6-16940 Filed 10-12-06; 8:45 am]

BILLING CODE 3410-XY-P